ENVIRONMENTAL PROTECTION AGENCY

[ER-FRL-6689-9]

Environmental Impacts Statements; Notice of Availability.

Responsible Agency: Office of Federal Activities, General Information, (202) 564-7167 or http://www.epa.gov/compliance/nepa/. Weekly receipt of Environmental Impact Statements Filed 08/06/2007 Through 08/10/2007. Pursuant to 40 CFR 1506.9.

EIS No. 20070345, Final EIS, BLM, OR, North Steens Ecosystem Restoration Project, To Reduce Juniper-Related Fuels and Restore Various Plant Communities, Implementation, Andrews Resource Area, Cooperative Management and Protection Area (CMPA), Harney County, OR. Wait Period Ends: 09/17/2007. Contact: Douglas Linn, 541-573-4543.

EIS No. 20070346, Draft Supplement, AFS, CA, Brown Project, Revised Proposal to Improve Forest Health by Reducing Overcrowded Forest Stand Conditions, Trinity River Management Unit, Shasta-Trinity National Forest, Weaverville Ranger District, Trinity County, CA. Comment Period Ends: 10/01/2007. Contact: J. Sharon Heywood, 530-226-2500.

EIS No. 20070347, Final EIS, FRC, TX, Calhoun Point Comfort Liquefied Natural Gas (LNG) Project, (Docket Nos. CP05-91-000 and CP06-380-00) Construction of New Pipeline on 73 acres, Port of Port Lavaca, Calhoun and Jackson Counties, TX. Wait Period Ends: 09/17/2007. Contact: Andy Black, 1-866-208-3372.

EIS No. 20070348, Final EIS, NPS, NM, Bandelier National Monument, Ecological Restoration Plan, Reestablish Healthy, Sustainable Vegetative Conditions within the Pinon-Juniper Woodland, Los Alamos and Sandoval Counties, NM. Wait Period Ends: 09/17/2007. Contact: John Mack, 505-672-3861 Ext. 540.

EIS No. 20070349, Draft EIS, NAS, 00, PROGRAMMATIC—Constellation Program, Develop the Flight Systems and Earth-based Ground Infrastructure for Future Missions, International Space Station, The Moon, Mars, and Beyond, Brevard and Volusia Counties, FL; Hancock County, MS; Orleans Parish, LA; Harris County, TX; Madison County, AL; Cuyahoga and Erie Counties, OH; Hampton, VA; Santa Clara County, CA; Dona Ana and Otero Counties, NM; and Box Elder and Davis Counties, UT. Comment Period Ends: 10/01/2007. Contact: Kathleen Callister, 202-358-1953.

EIS No. 20070350, Final EIS, NPS, PA, Valley Forge National Historical Park, General Management Plan, Implementation, King of Prussia, PA. Wait Period Ends: 09/17/2007. Contact: Deirdre Gibson, 610-783-1047.

EIS No. 20070351, Draft EIS, NSP, 00, PROGRAMMATIC—Integrated Ocean Drilling Program-United States Implementing Organizations Participation in the Development of Scientific Ocean Drilling, IODP-USIO, Comment Period Ends: 10/01/2007. Contact: James Allan, 703-292-8144.

EIS No. 20070352, Final EIS, AFS, WY, Thunder Basin Analysis Area Vegetation Management, To Implement Best Management Grazing Practices and Activities, Douglas Ranger District, Medicine Bow-Routt National Forests and Thunder Basin National Grassland, Campbell, Converse, and Weston Counties, WY. Wait Period Ends: 09/17/2007. Contact: Kyle Schmit, 307-358-4960.

EIS No. 20070353, Final EIS, NOA, 00, Atlantic Large Whale Take Reduction Plan, Proposed Amendments to Implement Specific Gear Modifications for Trap/Pot and Gillnet Fisheries, Broad-Based Gear Modifications, Exclusive Economic Zone (EEZ), ME, CT and RI. Wait Period Ends: 09/17/2007. Contact: Diane Borggaard, 978-281-9300 Ext. 6503.

EIS No. 20070354, Final EIS, AFS, CO, Deer Creek Shaft and E Seam Methane Drainage Wells Project, Construct, Operate and Reclaim up to 137 Methane Drainage Well, Federal Coal lease, Paonia Ranger District, Grand Mesa, Uncompahgre and Gunnison National Forests, Delta and Gunnison Counties, CO. Wait Period Ends: 09/17/2007. Contact: Niccole Mortenson, 970-874-6616.

EIS No. 20070355, Final EIS, FRC, 00, Southeast Supply Header Project, Construction and Operation of Natural Gas Pipeline Facilities, Located in various Counties and Parishes in LA, MS and AL. Wait Period Ends: 09/17/2007. Contact: Andy Black, 1-866-208-3372.

EIS No. 20070356, Draft EIS, FRC, CO, High Plains Expansion Project, (Docket No. CP07-207-000) Natural Gas Pipeline Facility, Construction and Operation, U.S. Army COE 404, Weld, Adams, and Morgan Counties, CO. Comment Period Ends: 10/01/2007. Contact: Andy Black, 1-866-208-3322.

Amended Notices

EIS No. 20070209, Draft EIS, FHW, NY,Long Island Truck-Rail Intermodal (LITRIM) Facility, Construction and Operation, Right-of-Way Acquisition, Town of Islip, Suffolk County, NY. Comment Period Ends: 09/24/2007. Contact: Robert Arnold, 518-431-4127. Revision of FR Notice Published 06/01/2007: Extending Comment Period from 7/25/2007 to 09/24/2007.

EIS No. 20070278, Draft EIS, FHW, CA, Tier 1—Placer Parkway Corridor Preservation Project, Select and Preserve a Corridor for the Future Construction from CA-70/99 to CA 65, Placer and Sutter Counties, CA. Comment Period Ends: 09/10/2007. Contact: Cesar Perez, 916-498-5065. Revision of FR Notice Published 07/06/2007: Extending Comment Period from 08/20/2007 to 09/10/2007.

Dated: August 14, 2007.
Ken Mittelholtz,
Environmental Protection Specialist, Office of Federal Activities.

[FR Doc. E7-16257 Filed 8-16-07; 8:45 am]

BILLING CODE 6560-50-P